DEPARTMENT OF THE INTERIOR

Bureau of Land Management

[UTU 42839 and UTU 42839A]

Public Land Order No. 7576; Partial Revocation of Secretarial Order Dated December 21, 1906; Utah

AGENCY: Bureau of Land Management, Interior.

ACTION: Public Land Order.

SUMMARY: This order partially revokes a Secretarial Order insofar as it affects approximately 400 acres of National Forest System lands withdrawn for Bryant's Fork, Strawberry, and Uinta River Administrative Sites. This action will open the lands to such forms of disposition as may by law be made of National Forest System lands and to mining, subject to valid existing rights, the provisions of existing withdrawals, other segregations of record, and the requirements of applicable law.

EFFECTIVE DATE: August 27, 2003.

FOR FURTHER INFORMATION CONTACT: Marsha Fryer, Forest Service, Intermountain Region, 324-25th Street, Ogden, Utah 84401-2310, 801-625-5802.

SUPPLEMENTARY INFORMATION: The Secretarial Order dated December 21, 1906, withdrew National Forest System lands for Bryant's Fork, Strawberry, and Uinta River Administrative Sites, and several other administrative sites (ranger stations). The Forest Service has determined that the withdrawal is no longer needed on the three administrative sites listed above and has requested the partial revocation.

Order

By virtue of the authority vested in the Secretary of the Interior by section 204 of the Federal Land Policy and Management Act of 1976, 43 U.S.C. 1714 (1994), it is ordered as follows:

1. The Secretarial Order dated December 21, 1906, which withdrew National Forest System lands for several Forest Service administrative sites, is hereby revoked insofar as it affects the following described lands:

Uinta National Forest

Bryant's Fork Administrative Site

Uinta Special Meridian

T. 3 S., R. 12 W.,

Sec. 36, W½SE¼.

Strawberry Administrative Site

Uinta Special Meridian

T. 2 S., R. 12 W.,

Sec. 27, NE¼.

Ashley National Forest

Uinta River Administrative Site

Uinta Special Meridian

T. 2 N., R. 2 W.,

Sec. 4, E½SW¼ and W½SE¼.

The areas described aggregate approximately 400 acres.

2. At 10 a.m. on August 27, 2003, the lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: July 11, 2003.
Rebecca W. Watson,
Assistant Secretary—Land and Minerals Management.

[FR Doc. 03-19125 Filed 7-25-03; 8:45 am]

BILLING CODE 3410-11-P